FEDERAL COMMUNICATIONS COMMISSION

47 CFR Part 73

[MM Docket No. 99-25; FCC 07-204]

Creation of a Low Power Radio Service

AGENCY: Federal Communications Commission.

ACTION: Final rule; announcement of effective date.

SUMMARY: In this document, the Commission announces that the Office of Management and Budget (OMB) has approved, for a period of three years, the revised information collections associated with the Creation of a Low Power Radio Service. This notice is consistent with the Ordering Clause of the Report and Order published on January 17, 2008, which stated that changes to FCC Form 316, OMB Control Number 3060-0009, Application for Consent to Assignment of Broadcast Station Construction Permit or License or Transfer of Control of Corporation Holding Broadcast Station Construction Permit and FCC Form 318, OMB Control Number 3060-0920, Application for Construction Permit for a Low Power FM Broadcast Station will become effective 60 days after a notice is published in the Federal Register announcing OMB approval of the forms.

DATES: FCC Forms 316 and 318 are effective September 5, 2008.

FOR FURTHER INFORMATION CONTACT: Peter Doyle or Kelly Donohue, Audio Division, Media Bureau at (202) 418-2700.

SUPPLEMENTARY INFORMATION: This document announces that, on June 23, 2008, OMB approved, for a period of three years, the revised information collection requirements resulting in changes to FCC Forms 316 and 318 contained in the Commission's Report and Order concerning the Creation of a Low Power Radio Service, FCC 07-204, published at 73 FR 3202, January 17, 2008. The OMB Control Numbers are 3060-0009 (FCC Form 316) and 3060-0920 (FCC Form 318), respectively. The Commission publishes this notice as an announcement of the effective date of the forms and announcement of OMB approval for the information collections. If you have any comments on the burden estimates listed below, or how the Commission can improve the collections and reduce any burdens caused thereby, please write to Cathy Williams, Federal Communications Commission, Room 1-C823, 445 12th Street, SW., Washington, DC 20554. Please include the OMB Control Numbers 3060-0009 and 3060-0920 in your correspondence. The Commission will also accept your comments via the Internet if you send them to PRA@fcc.gov.

To request materials in accessible formats for people with disabilities (Braille, large print, electronic files, audio format), send an e-mail to fcc504@fcc.gov or call the Consumer & Governmental Affairs Bureau at (202) 418-0530 (voice), (202) 418-0432 (TTY).

Synopsis

As required by the Paperwork Reduction Act of 1995 (44 U.S.C. 3507), the FCC is notifying the public that it received OMB approval on June 23, 2008, for the revised information collection requirements resulting in changes to FCC Forms 316 and 318. The OMB Control Numbers assigned to the information collections are 3060-0009 and 3060-0920, respectively. For revisions to Form 316 (3060-0009), the total annual reporting burden for respondents for these collections of information, including the time for gathering and maintaining the collection of information, is estimated to be: 750 respondents, a total annual burden hours of 855 hours, and $425,150 in total annual costs. For revisions to Form 318 (3060-0920), the total annual reporting burden for respondents for these collections of information, including the time for gathering and maintaining the collection of information, is estimated to be: 16,659 respondents, a total annual burden hours of 34,396 hours, and $23,850 in total annual costs.

Under 5 CFR part 1320, an agency may not conduct or sponsor a collection of information unless it displays a current, valid OMB Control Number.

No person shall be subject to any penalty for failing to comply with a collection of information subject to the Paperwork Reduction Act that does not display a valid OMB Control Number. The foregoing notice is required by the Paperwork Reduction Act of 1995, Public Law 104-13, October 1, 1995, 44 U.S.C. 3507.

Federal Communications Commission.
William F. Caton,
Deputy Secretary.

[FR Doc. E8-15307 Filed 7-3-08; 8:45 am]

BILLING CODE 6712-01-P